ENVIRONMENTAL PROTECTION AGENCY

[EPA-OPP-2012-0544; FRL-9534-8]

Information Collection Request Submitted to OMB for Review and Approval; Comment Request; Notice of Supplemental Distribution of a Registered Pesticide Product

AGENCY: Environmental Protection Agency (EPA).

ACTION: Notice.

SUMMARY: The Environmental Protection Agency has submitted an information collection request (ICR), “Notice of Supplemental Distribution of a Registered Pesticide Product” (EPA ICR No. 0278.11, OMB Control No. 2070-0044) to the Office of Management and Budget (OMB) for review and approval in accordance with the Paperwork Reduction Act (44 U.S.C. 3501 et seq.). This is a renewal of the ICR that is currently approved through July 31, 2013. The ICR, which is abstracted below, describes the nature of the information collection activity and its expected burden and costs. Copies of the ICR and related documents are available in the docket.

DATES: Additional comments may be submitted on or before August 21, 2013.

ADDRESSES: Submit your comments, referencing Docket ID Number EPA-HQ-OPP-2012-0544, to (1) EPA online using http://www.regulations.gov (our preferred method), by email to opp.ncic@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lily G. Negash, Field & External Affairs Division, (Mail Code 7506P), Environmental Protection Agency, 1200 Pennsylvania Ave. NW., Washington, DC 20460; telephone number: 703-347-8515; fax number: (703) 305-5884; email address: negash.lily@epa.gov.

SUPPLEMENTARY INFORMATION: Supporting documents which explain in detail the information that the EPA will be collecting are available in the public docket for this ICR. The docket can be viewed online at http://www.regulations.gov or in person at the EPA Docket Center, EPA West, Room 3334, 1301 Constitution Ave. NW., Washington, DC. The telephone number for the Docket Center is 202-566-1744. For additional information about EPA's public docket, visit http://www.epa.gov/dockets.

Abstract: This information collection activity notifies the Environmental Protection Agency (EPA) of supplemental distribution of registered pesticide products. As mandated by the Federal Insecticide, Fungicide and Rodenticide Act (FIFRA), as amended, EPA is responsible for the regulation of pesticides. Section 3 (e) of FIFRA (7 U.S.C. 136a (e)) allows pesticide products with the same formulation, label claims, and manufacturer as a registered product to be distributed under the same registration as the basic product. Pesticide registrants may distribute or sell registered pesticides under a different product name in addition to the registered name, or under a different entity's name and address. Such distribution and sale is termed “supplemental distribution” and the product is termed a “distributor product.” EPA requires pesticide registrants who enter into supplemental distribution agreements with other companies to submit EPA Form 8570-5, Notice of Supplemental Distribution of a Registered Pesticide Product. Supplemental registrations are only an extension of a currently federally registered pesticide product.

Distributor products must reflect any changes in formulation or labeling made to the basic registered product within the same timeframe imposed on that product. A distributor is considered an agent of the registrant; both the registrant and the distributor may be held liable for violations pertaining to the distributed product. In addition to notifying the Agency, an individual or entity may become a distributor upon meeting the regulatory conditions. Distributor products must be the same as the registered product, and may not be repackaged (must remain in the producer's unopened container); distributor product labels must bear qualifications such as “distributed by,” or “sold by;” the labeling must bear the same claims as the basic registered product—with the exception of deletion of specific claims. In addition, although the distributed product's name may be different from that of the registered product, it may not be misleading. Product distributorship data submitted by basic product registrants under FIFRA Section 3(e) are considered by the Office of Pesticide Programs (OPP) to contain no confidential business information (CBI).

Form Numbers: EPA Form 8570-5.

Respondents/affected entities: Pesticide and other Agricultural Chemical Manufacturing; individuals or firms engaged in activities related to the registration and supplemental distribution of a pesticide product.

Respondent's obligation to respond: Required to obtain or retain a benefit.

Estimated number of responses: 1,451 per year (total).

Frequency of response: Once per event.

Total estimated burden: 387 hours (per year). Burden is defined at 5 CFR 1320.03(b).

Total estimated cost: $34,505 (per year), includes $0 annualized capital or operation & maintenance costs.

Changes in the Estimates: There is a decrease of 68 hours in the total estimated respondent burden compared with the ICR currently approved by OMB. This decrease is an adjustment to account for a previously unaccounted-for additional activity involved in some of the responses.

John Moses,
Director, Collection Strategies Division.

[FR Doc. 2013-17514 Filed 7-19-13; 8:45 am]

BILLING CODE 6560-50-P